DEPARTMENT OF COMMERCE

National Institute of Standards and Technology

Proposed Information Collection; Comment Request; Hollings Manufacturing Extension Partnership (HMEP) Program Application Requirements

AGENCY: NIST, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 9, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Diane Henderson, Manufacturing Extension Partnership, 100 Bureau Drive, Mail Stop 4800, 301-975-5105, mepffo@nist.gov.

SUPPLEMENTARY INFORMATION:

I. Abstract

The National Institute of Standards and Technology's (NIST) Hollings Manufacturing Extension Partnership (MEP) works with small and medium-sized U.S. manufacturers to help them create and retain jobs, increase profits, and save time and money. The nationwide network provides a variety of services, from innovation strategies to process improvements to sustainable manufacturing, supply chain and technology acceleration services. MEP centers also work with partners at the State and Federal levels on programs that put manufacturers in position to develop new customers, expand into new markets and create new products.

As a program of the U.S. Department of Commerce, MEP offers a range of effective resources to help manufacturers identify opportunities that will accelerate and strengthen their growth and competitiveness in the global marketplace.

MEP is a nationwide network of more than 1,200 technical experts—located in every State—serving as trusted business advisors focused on transforming U.S. manufacturers to compete globally, supporting supply chain integration, and providing access to technology for improved productivity. MEP is built around manufacturing extension centers locally positioned throughout the 50 States and Puerto Rico. MEP Centers are a diverse network of State, non-profit university-based, and other non-profit organizations, offering products and services that address the critical needs of their local manufacturers.

Each MEP Center works directly with area manufacturers to provide expertise and services tailored to their most critical needs, ranging from process improvement and workforce development to business practices and technology transfer. Additionally, MEP Centers connect manufacturers with government and trade associations, universities and research laboratories, and a host of other public and private resources to help them realize individual business goals.

Through local and national resources, MEP Centers have helped thousands of manufacturers reinvent themselves, increase profits, create jobs and establish a foundation for long-term business growth and productivity.

This request is for the information collection requirements associated with submission of proposals for NIST MEP funding. The intent of the collection is to meet statutory requirements for NIST MEP, as well as compliance with 15 U.S.C. 278k, as implemented in 15 CFR part 290.

II. Method of Collection

Electronically via www.grants.gov.

III. Data

OMB Control Number: 0693-0056.

Form Number(s): None.

Type of Review: Regular Revision of a currently approved information collection.

Affected Public: U.S.-based nonprofit institution or organization. Nonprofit institutions include public and private nonprofit organizations, nonprofit or State colleges and universities, public or nonprofit community and technical colleges, and State, local or Tribal governments.

Estimated Number of Respondents: 24.

Estimated Time per Response: 112 hrs.

Estimated Total Annual Burden Hours: 2,688 hours.

Estimated Total Annual Cost to Public: 0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 4, 2015.
Glenna Mickelson,
Management Analyst, Office of the Chief Information Officer.

[FR Doc. 2015-22788 Filed 9-9-15; 8:45 am]

BILLING CODE 3510-13-P